DEPARTMENT OF TRANSPORTATION

Surface Transportation Board

[STB Finance Docket No. 34255]

Portland & Western Railroad, Inc.— Lease and Operations Exemption— The Burlington Northern and Santa Fe Railway Company

Correction

In notice document 03-9 beginning on page 396 in the issue of Friday, January 3, 2003 make the following correction:

On page 396, in the third column, the docket number is corrected to read as set forth above.

[FR Doc. C3-9 Filed 1-8-03; 8:45 am]

BILLING CODE 1505-01-D

DEPARTMENT OF THE TREASURY

Office of Thrift Supervision

12 CFR Part 563

[No. 2002-64]

RIN 1550-AB55

Savings Associations—Transactions with Affiliates

Correction

In rule document 02-31782 beginning on page 77909 in the issue of Friday, December 20, 2002 make the following correction:

§ 563.41 [Corrected]

On page 77917, in the second column, in 563.41, in paragraph (a)(2), in the second line, “defined ” should read, “is defined ”.

[FR Doc. C2-31782 Filed 1-8-03; 8:45 am]

BILLING CODE 6720-01-D